DEPARTMENT OF HEALTH AND HUMAN SERVICES

Administration on Community Living

Proposed Information Collection Activity; Comment Request; Protection and Advocacy Statement of Goals and Priorities

AGENCY: Administration for Community Living, Administration on Intellectual and Developmental Disabilities, HHS.

ACTION: Notice.

SUMMARY: Federal statute and regulation require each Protection and Advocacy (P&A) System to prepare and submit to HHS a Statement of Goals and Priorities (SGP) for the P&A for Developmental Disabilities (PADD) program for each coming fiscal year. While the P&A is mandated to protect and advocate under a range of different Federally authorized disabilities programs, only the PADD program requires an SGP. Following the required public input for the coming fiscal year, the P&As submit the final version of this SGP to the Administration on Intellectual and Developmental Disabilities (AIDD). AIDD will analyze each SGP for compliance and aggregate the information in the SGPs into a national profile of programmatic emphasis for P&A Systems in the coming year. This aggregation will provide AIDD with a tool for monitoring of the P&As, including the public input requirement. Furthermore, it will provide an overview of program priorities, and permit AIDD to track accomplishments against goals, permitting the formulation of technical assistance and compliance with the Developmental Disabilities Assistance and Bill of Rights Act of 2000.

DATES: Submit written comments on the collection of information by August 10, 2015.

ADDRESSES: Submit written comments on the collection of information by email to: Valerie.Bond@aoa.hhs.gov.

FOR FURTHER INFORMATION CONTACT: Valerie Bond, Administration on Community Living, Administration on Intellectual and Developmental Disabilities, Office of Program Support, One Massachusetts Avenue NW., Room 4302, Washington, DC 20201, 202-690-5841.

SUPPLEMENTARY INFORMATION: In compliance with the requirements of section 506 (c)(2)(A) of the Paperwork Reduction Act of 1995, the Administration on Community Living is soliciting public comment on the specific aspects of the information collection described above. Copies of the proposed collection of information can be obtained and comments may be forwarded by writing to: Valerie Bond, Administration on Community Living, Administration on Intellectual and Developmental Disabilities, Office of Program, One Massachusetts Avenue, NW., Room 4302, Washington, DC 20201.

The Department specifically requests comments on: (a) Whether the proposed Collection of information is necessary for the proper performance of the function of the agency, including whether the information shall have practical utility; (b) the accuracy of the agency's estimate of the burden of the proposed collection of information; (c) the quality, utility, and clarity of the information to be collected; (d) ways to minimize the burden information to be collected; and (e) ways to minimize the burden of the collection of information on respondents, including through the use of automated collection technique comments and or other forms of information technology. Consideration will be given to comments and suggestions submitted within 60 days of this publication.

Respondents: 57 Protection and Advocacy Systems

Annual Burden Estimates
Instrument | Number of respondents | Number of responses per respondent | Average burden hours per response | Total burden hours
State Developmental Disabilities Council 5-Year State Plan | 57 | 1 | 44 | 2,508

Estimated Total Annual Burden Hours: 2,508.

Dated: June 3, 2015.
Kathy Greenlee,
Administrator and Assistant Secretary for Aging.

[FR Doc. 2015-14050 Filed 6-8-15; 8:45 am]

BILLING CODE 4154-01-P